DEPARTMENT OF ENERGY

Federal Energy Regulatory Commission

[Project No. 15366-000]

Town of Stowe Electric Department; Notice of Intent To Prepare an Environmental Assessment

On July 2, 2024, the Town of Stowe Electric Department filed an application for an exemption from licensing for the 150-kilowatt Smith's Falls Hydroelectric Project No. 15366. The project would be located on the Little River in Lamoille County, Vermont.

In accordance with the Commission's regulations, on March 13, 2025, Commission staff issued a notice that the project was ready for environmental analysis (REA notice). Based on the information in the record, including comments filed on the REA notice, staff does not anticipate that exempting the project from licensing would constitute a major federal action significantly affecting the quality of the human environment. Therefore, staff intends to prepare an environmental assessment (EA) on the application to exempt the project from licensing.¹

¹ For tracking purposes under the National Environmental Policy Act, the unique identification number for documents relating to this environmental review is EAXX-019-20-000-1744215115.

The EA will be issued and circulated for review by all interested parties. All comments filed on the EA will be analyzed by staff and considered in the Commission's final decision on the exemption application.

The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

The application will be processed according to the following schedule. Revisions to the schedule may be made as appropriate.

Milestone | Target date
Commission issues EA | September 15, 2025.

Any questions regarding this notice may be directed to Joshua Dub by telephone at (202) 502-8138 or by email at Joshua.Dub@ferc.gov.

Dated: May 22, 2025.
Debbie-Anne A. Reese,
Secretary.

[FR Doc. 2025-09674 Filed 5-28-25; 8:45 am]

BILLING CODE 6717-01-P